DEPARTMENT OF HOMELAND SECURITY

Bureau of Customs and Border Protection

[CBP Dec. 07-11]

Re-Accreditation of Core Laboratories, Inc., as a Commercial Laboratory

AGENCY: Bureau of Customs and Border Protection, Department of Homeland Security.

ACTION: Notice of re-accreditation of Core Laboratories, Inc. of Sulfur, Louisiana, as an accredited commercial laboratory.

SUMMARY: Notice is hereby given that, pursuant to 19 CFR 151.12, Core Laboratories, Inc., 4025 Oak Lane, Sulfur, Louisiana 60665, has been re-accredited to test Petroleum and Petroleum Products entered under Chapters 17 and 29 of the Harmonized Tariff Schedule of the United States (HTSUS) for customs purposes, in accordance with the provisions of 19 CFR 151.12. Anyone wishing to employ this entity to conduct laboratory analysis should request and receive written assurances from the entity that it is accredited or approved by the Bureau of Customs and Border Protection to conduct the specific test requested. Alternatively, inquiries regarding the specific tests this entity is accredited to perform may be directed to the Bureau of Customs and Border Protection by calling (202) 344-1060. The inquiry may also be sent to http://www.cbp.gov/xp/ cgov/import/operations_support/labs_scientific_svcs/org_and_operations.xml.

DATES: The re-accreditation of Core Laboratories, Inc., as an accredited laboratory became effective on March 23, 2005. The next triennial inspection date will be scheduled for March 2008.

FOR FURTHER INFORMATION CONTACT: Eugene J. Bondoc, PhD, or Randall Breaux, Laboratories and Scientific Services, Bureau of Customs and Border Protection, 1300 Pennsylvania Avenue, NW., Suite 1500N, Washington, DC 20229, 202-344-1060.

Dated: March 22, 2007.
Ira S. Reese,
Executive Director, Laboratories and Scientific Services.

[FR Doc. E7-5705 Filed 3-27-07; 8:45 am]

BILLING CODE 9111-14-P